DEPARTMENT OF AGRICULTURE

Forest Service

Shoshone Resource Advisory Committee

AGENCY: Forest Service, USDA.

ACTION: Notice of meeting.

SUMMARY: The Shoshone Resource Advisory Committee (Committee) will hold a conference call on January 28, 2011. The Committee is meeting as authorized under the Secure Rural Schools and Community Self-Determination Act (Pub. L. 110-343) and in compliance with the Federal Advisory Committee Act. The purpose of the conference call is to assess the project recruitment effort, determine whether further steps should be taken to recruit project proposals, and to vote for a new chairperson.

DATES: The conference call will be held January 28, 2011, at 8 a.m.

ADDRESSES: The meeting will be held via conference call.

FOR FURTHER INFORMATION CONTACT: Olga Troxel, Resource Advisory Committee Coordinator, Shoshone National Forest Supervisor's Office, (307) 578-5164. Individuals who use telecommunication devices for the deaf (TDD) may call the Federal Information Relay Service (FIRS) at 1-800-877-8339 between 8 a.m. and 8 p.m., Eastern Standard Time, Monday through Friday.

SUPPLEMENTARY INFORMATION: The meeting is open to the public. Members of the public who wish to participate may do so by calling Olga Troxel, Resource Advisory Committee Coordinator, for conference call information. The following business will be conducted: (1) Progress report on how well the word is getting out about the Committee and funding, and (2) Discussion on when and how to elect the new chairperson. Persons who wish to bring related matters to the attention of the Committee may file written statements with the Committee staff before or after the meeting. Public input sessions will be provided.

Dated: January 11, 2011.
Joseph G. Alexander,
Forest Supervisor.

[FR Doc. 2011-895 Filed 1-18-11; 8:45 am]

BILLING CODE 3410-11-M